COMMISSION ON CIVIL RIGHTS

Sunshine Act Notice

AGENCY: United States Commission on Civil Rights.

ACTION: Notice of meeting.

Date and Time: Thursday, October 8, 2009; 5:15 p.m. EDT.

Place: Via Teleconference. Public Dial in—1-800-597-7623. Conference ID # 32714747.

Meeting Agenda

This meeting is open to the public.

I. Approval of Agenda.

II. Management and Operations.

• Submission of FY 2011 Budget Estimate to the Office of Management and Budget.

III. Program Planning.

• Approval of Letter to Attorney General Holder re: ACORN.

• National Conference Subcommittee Issues.

• Motion to Appoint Additional Member to the Subcommittee.

• Motion to Delegate to the Subcommittee the Authority to Set the National Conference Date.

IV. Adjourn.

Contact Person for Further Information: Lenore Ostrowsky, Acting Chief, Public Affairs Unit (202) 376-8582. TDD: (202) 376-8116.

Persons with a disability requiring special services, such as an interpreter for the hearing impaired, should contact Pamela Dunston at least seven days prior to the meeting at 202-376-8105. TDD: (202) 376-8116.

Dated: September 28, 2009.
David Blackwood,
General Counsel.

[FR Doc. E9-23713 Filed 9-28-09; 4:15 pm]

BILLING CODE 6335-01-P